DEPARTMENT OF DEFENSE

Office of the Secretary

[Docket ID: DoD-2024-OS-0028]

Proposed Collection; Comment Request

AGENCY: National Security Agency (NSA), Department of Defense (DoD).

ACTION: 60-Day information collection notice.

SUMMARY: In compliance with the Paperwork Reduction Act of 1995, the NSA announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 3, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the NSA, 9800 Savage Rd., Suite 6272, Fort George G. Meade, MD 20755-6000, ATTN: Mr. Riyadh Feghali, or call 443-654-2478.

SUPPLEMENTARY INFORMATION:

Title; Associated Form; and OMB Number: National Security Agency Trust and Confidence Survey; OMB Control Number 0705-NSAT.

Needs and Uses: The purpose of this data collection is to obtain feedback about trust and confidence in the NSA. The data collected through this survey will contribute to the Agency's understanding of those that it serves and enable it to improve its communications and increase customers' trust and confidence in the Agency.

The target audience is customers, potential customers, delivery partners, and/or stakeholders of the NSA including academia, industry partners, and think tanks. Some respondents are considered to be part of the potential future workforce at the NSA.

Affected Public: Individuals or households.

Annual Burden Hours: 400.

Number of Respondents: 2,400.

Responses per Respondent: 1.

Annual Responses: 2,400.

Average Burden per Response: 10 minutes.

Frequency: Once.

Dated: March 26, 2024.
Aaron T. Siegel,
Alternate OSD Federal Register Liaison Officer, Department of Defense.

[FR Doc. 2024-06928 Filed 4-1-24; 8:45 am]

BILLING CODE 6001-FR-P